DEPARTMENT OF ENERGY

Federal Energy Regulatory Commission

[Docket No. RP02-479-001]

Vector Pipeline L.P.; Notice of Proposed Changes in FERC Gas Tariff

August 21, 2002.

Take notice that on August 9, 2002, Vector Pipeline L.P. (Vector), tendered for filing revised tariff sheets to its FERC Gas Tariff, Volume No. 1, to take the place of tariff sheets submitted on August 1, 2002 which are now withdrawn by Vector. Vector requests that the revised tariff sheets become effective October 1, 2002. Vector states that the purpose of this filing is to comply with the Commission's mandates in Order No. 587-O.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. See, 18 CFR 385.2001(a)(1)(iii) and the instructions on the Commission's Web site under the “e-Filing” link. The Commission strongly encourages electronic filings.

Linwood A. Watson, Jr.,
Deputy Secretary.

[FR Doc. 02-21862 Filed 8-27-02; 8:45 am]

BILLING CODE 6717-01-P